DEPARTMENT OF HEALTH AND HUMAN SERVICES

Administration on Aging

Agency Information Collection Activities; Submission for OMB Review; Comment Request; State Annual Long-Term Care Ombudsman Report and Instructions

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by June 4, 2009.

ADDRESSES: Submit written comments on the collection of information by fax 202-395-6974 to the OMB Desk Officer for AoA, Office of Information and Regulatory Affairs, OMB.

FOR FURTHER INFORMATION CONTACT: Sue Wheaton, telephone: (202) 357-3587; e-mail: sue.wheaton@aoa.gov.

SUPPLEMENTARY INFORMATION: In compliance with 44 U.S.C. 3507, AoA has submitted the following proposed collection of information to OMB for review and clearance.

States provide the following data and narrative information in the report:

1. Numbers and descriptions of cases filed and complaints made on behalf of long-term care facility residents to the statewide ombudsman program;

2. Major issues identified impacting on the quality of care and life of long-term care facility residents;

3. Statewide program operations; and

4. Ombudsman activities in addition to complaint investigation.

The report form and instructions have been in continuous use, with minor modifications, since they were first approved by OMB for the FY 1995 reporting period. This request is for approval to extend use of the current form and instructions, with no modifications, for three years, covering the FY 2009-2011 reporting periods.

The data collected on complaints filed with ombudsman programs and narrative on long-term care issues provide information to Centers for Medicare and Medicaid Services and others on patterns of concerns and major long-term care issues affecting residents of long-term care facilities. Both the complaint and program data collected assist the states and local ombudsman programs in planning strategies and activities, providing training and technical assistance and developing performance measures.

A reporting form and instructions may be viewed in the ombudsman section of the AoA Web site, http://www.aoa.gov.

AoA estimates the burden of this collection and entering the report information as follows: Approximately 10,310 hours, with 52 State Agencies on Aging responding annually.

Dated: April 28, 2009.
Edwin L. Walker,
Acting Assistant Secretary for Aging.

[FR Doc. E9-10305 Filed 5-4-09; 8:45 am]

BILLING CODE 4154-01-P